DEPARTMENT OF DEFENSE

Office of the Secretary

Submission for OMB Review; Comment Request

ACTION: Notice.

The Department of Defense has submitted to OMB for clearance, the following proposal for collection of information under the provisions of the Paperwork Reduction Act (44 U.S.C. chapter 35).

Title, Associated Form, and OMB Number: Record of Arrivals and Departures of Vessels at Marine Terminals; ENG Form 3926; OMB Number 0710-0005.

Type of Request: Extension.

Number of Respondents: 450.

Responses Per Respondent: 12.

Annual Responses: 5,400.

Average Burden Per Response: 27 minutes.

Annual Burden Hours: 2,500.

Needs and Uses: The Corps of Engineers uses ENG Form 3926 in conjunction with the ENG Form 3925 Series as the basic source of input to conduct the Waterborne Commerce Statistics data collection program. The information collected enables the COE to identify significant movements of vessels and tonnage. The information is voluntarily submitted by respondents to assist the Waterborne Commerce Statistics Center (WCSC) in the identification of vessel operators who fail to report significant vessel moves and tonnage.

Affected Public: Business or Other For-Profit.

Frequency: Monthly.

Respondent's Obligation: Voluntary.

OMB Desk Officer: Mr. Jim Laity.

Written comments and recommendations on the proposed information collection should be sent to Mr. Laity at the Office of Management and Budget, Desk Officer for U.S. Army COE, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: June 8, 2000.
Patricia L. Toppings,
Alternate OSD Federal Register Liaison Officer, Department of Defense.

[FR Doc. 00-15219 Filed 6-15-00; 8:45 am]

BILLING CODE 5001-10-M